DEPARTMENT OF COMMERCE

National Oceanic and Atmospheric Administration

50 CFR Part 216

[Docket No. 050623166-5166-01; I.D. 061505B]

RIN 0648-AT49

Marine Mammals; Subsistence Taking of Northern Fur Seals; Harvest Estimates

AGENCY: National Marine Fisheries Service (NMFS), National Oceanic and Atmospheric Administration (NOAA), Commerce.

ACTION: Notice of availability; request for comments.

SUMMARY: Pursuant to the regulations governing the subsistence taking of northern fur seals, this document summarizes the annual fur seal subsistence harvests on St. George and St. Paul Islands (the Pribilof Islands) for 2002 to 2004 and proposes annual estimates of fur seal subsistence needs for 2005 through 2007 on the Pribilof Islands, Alaska. NMFS solicits public comments on the proposed estimates.

DATES: Written comments must be received at the appropriate address or fax number by August 17, 2005.

ADDRESSES: Written comments on the harvest estimates should be addressed to the Assistant Regional Administrator for Protected Resources, NMFS, Alaska Region, 709 W. 9th St., P.O. Box 21668, Juneau, AK 99802. Comments may be sent via facsimile (fax) to (907) 586-7012 or by email to fursealharvest-PR-0648-at49@noaa.gov.

Comments also may be submitted via the Federal eRulemaking Portal: http://www.regulations.gov. Follow the instruction on the website for submitting comments.

FOR FURTHER INFORMATION CONTACT: Daniel Vos, (907) 271-5006, email Daniel.Vos@noaa.gov; Kaja Brix, (907) 586-7824, email Kaja.Brix@noaa.gov; or Tom Eagle, (301) 713-2322, ext. 105, email Tom.Eagle@noaa.gov.

SUPPLEMENTARY INFORMATION:

Electronic Access

A draft Environmental Impact Statement is available on the Internet at the following address: http://www.fakr.noaa.gov/protectedresources/seals/fur/deis0804.pdf.

Background

The subsistence harvest from the depleted stock of northern fur seals, Callorhinus ursinus, on the Pribilof Islands, Alaska, is governed by regulations found in 50 CFR part 216, subpart F. The purpose of these regulations, published under the authority of the Fur Seal Act (FSA), 16 U.S.C. 1151, et seq., and the Marine Mammal Protection Act (MMPA), 16 U.S.C. 1361, et seq., is to limit the take of fur seals to a level providing for the subsistence needs of the Pribilof residents, while restricting taking by sex, age, and season for herd management purposes. To further minimize negative effects on the Pribilof Islands' fur seal population, the harvest has been limited to a 47-day season (June 23 to August 8).

There are several factors and conditions that affect the subsistence harvest of northern fur seals. Beginning in 2000, the take ranges have been discussed with each tribal government as part of the co-management relationship and agreement. As the history of estimating the subsistence needs of the Pribilof communities has been one of practical and social difficulties, the process to meet the take range regulation has evolved into the long-term acceptance of the ranges first established in 1987. These levels provide a degree of flexibility the communities feel comfortable with regarding changes and unanticipated needs within the community. The variability of the harvest occurs for many reasons. Weather conditions and availability of animals vary year by year. Demand may change. The timing restriction on the hunt overlaps with fishing seasons, and many of the hunters are also fishermen. Thus, they may be unavailable to hunt in certain years. If the harvest were reduced, the subsistence needs of the local communities may not be adequately met in certain years. The economic and logistical difficulties associated with small, rural and remote Alaskan communities such as those of St. Paul and St. George Islands, create a situation where subsistence use is an important source of food and a major component of the traditional needs of the communities.

Pursuant to the regulations governing the taking of fur seals for subsistence purposes, NMFS must publish a summary of the fur seal harvest for the previous 3-year period and an estimate of the number of seals expected to be taken in the subsequent 3-year period to meet the subsistence needs of the Aleut residents of the Pribilof Islands.

Summary of Harvest Operations and Monitoring 2002 to 2004

The annual harvests were conducted in the established manner and employed the standard methods required under regulations at 50 CFR 216.72. NMFS personnel monitored the harvest and worked closely with the tribal governments of each island to further improve the efficiency of the annual harvest and full utilization of the animals taken.

The reported northern fur seal subsistence harvests for St. Paul from 2002 to 2004 were 648, 522, and 493 respectively, and the reported northern fur seal subsistence harvests for St. George from 2002 to 2004 were 203, 132, and 123, respectively. The number of northern fur seals harvested on St. Paul Island from 1986 to 2004 ranged from 493 to 1,710, and the number harvested on St. George Island from 1986 to 2004 ranged from 92 to 319 seals. The average number of seals harvested during the past 10 years on St. Paul and St. George Islands, respectively, has been 958 seals (range: 493 to 1,591) and 193 seals (range: 121 to 260), (Table 1).

The tribal governments of both islands stress the full utilization of edible parts of harvested animals and have implemented a program that promotes full utilization of inedible seal parts for traditional arts, crafts, and other uses permitted under regulations at 50 CFR 216.73. The result has been an expanded use of these materials by the Aleut residents and increased fulfillment of the non-wasteful harvest requirements.

From 2002 through 2004, NMFS and the tribal governments of both islands worked closely to improve the conduct of the subsistence harvest and to promote full utilization of all the products thereof. Through the co-management process, (cooperative agreements were signed with St. Paul in 2000 and with St. George in 2001), NMFS and tribal authorities have developed a cooperative and collaborative working relationship, which increases local participation and responsibility regarding subsistence uses of fur seals and other marine mammals on and around the Pribilofs.

TABLE 1. SUBSISTENCE HARVEST LEVELS FOR NORTHERN FUR SEALS ON THE PRIBILOF ISLANDS, 1986-2004
Take Ranges: Year | Take Ranges: St. Paul | Take Ranges: St. George | Actual Harvest Levels: St. Paul | Actual Harvest Levels: St. George
1986 | 2,400-8,000 | 800-1,800 | 1,299 | 124
1987 | 1,600-2,400 | 533-1,800 | 1,710 | 92
1988 | 1,800-2,200 | 600-740 | 1,145 | 113
1989 | 1,600-1,800 | 533-600 | 1,340 | 181
1990 | 1,145-1,800 | 181-500 | 1,077 | 164
1991 | 1,145-1,800 | 181-500 | 1,645 | 281
1992 | 1,645-2,000 | 281-500 | 1,482 | 194
1993 | 1,645-2,000 | 281-500 | 1,518 | 319
1994 | 1,645-2,000 | 281-500 | 1,616 | 161
1995 | 1,645-2,000 | 281-500 | 1,525 | 260
1996 | 1,645-2,000 | 281-500 | 1,591 | 232
1997 | 1,645-2,000 | 300-500 | 1,153 | 227
1998 | 1,645-2,000 | 300-500 | 1,297 | 256
1999 | 1,645-2,000 | 300-500 | 1,000 | 193
2000 | 1,645-2,000 | 300-500 | 754 | 121
2001 | 1,645-2,000 | 300-500 | 597 | 184
2002 | 1,645-2,000 | 300-500 | 648 | 203
2003 | 1,645-2,000 | 300-500 | 522 | 132
2004 | 1,645-2,000 | 300-500 | 493 | 123

Estimate of Subsistence Need for the Period 2005 to 2007

The projected subsistence harvest estimates are given as a range, the lower end of which may be exceeded if NMFS is given notice and the Assistant Administrator for Fisheries, NOAA, determines that the annual subsistence needs of the Pribilof Aleuts have not been satisfied. Conversely, the harvest can be terminated before the lower end of the range is reached if the annual subsistence needs of the Pribilof residents are determined to have been met or the harvest has been conducted in a wasteful manner.

For the 3-year period, 2005 to 2007, NMFS proposes no change to the past and current ranges of 1,645-2,000 for St. Paul Island and 300-500 for St. George Island. Retaining these levels will provide adequate flexibility for further refinement of annual harvest levels through the co-management process.

As described earlier in this document, if the Aleut residents of either island reach the lower end of this yearly harvest estimate and have unmet subsistence needs and no indication of waste, they may request an additional number of seals up to the upper limit of the respective harvest estimates. The residents of St. George and St. Paul Islands may substantiate any additional need for seals by submitting in writing the information upon which they base their decision that subsistence needs are unfulfilled. The regulations at 50 CFR 216.72(e)(1) and (3) require a suspension of the fur seal harvest for up to 48 hours once the lower end of the estimated harvest level is reached. The suspension is to last no more than 48 hours, followed either by a finding that the subsistence needs have been met or by a revised estimate of the number of seals necessary to satisfy the Aleuts' subsistence needs. The harvest may also be suspended if the harvest has been conducted in a wasteful manner. NMFS seeks public comments on the proposed estimates.

The harvest of fur seals is anticipated to be non-wasteful and in compliance with the regulations specified at 50 CFR 216.72 which detail the restrictions and harvest. NMFS will continue to monitor the harvest on St. Paul Island and St. George Islands during 2005 to 2007.

Classification

National Environmental Policy Act

NMFS prepared a draft EIS evaluating the impacts on the human environment of the subsistence harvest on northern fur seals. The draft EIS, which is available on the Internet (see Electronic Access) was subjected to public review (69 FR 53915, September 3, 2004), and the comments are being incorporated into a final EIS.

Executive Order 12866 and Regulatory Flexibility Act

This rule has been determined to be not significant rule under Executive Order (E.O.) 12866. The regulations are not likely to result in (1) an annual effect on the economy of $100 million or more; (2) a major increase in costs or prices for consumers, individual industries, Federal, state, or local government agencies, or geographic regions; or (3) a significant adverse effect on competition, employment, investment, productivity, innovation, or on the ability of U.S.-based enterprises to compete with foreign-based enterprises in domestic or export markets. The Chief Counsel for Regulation, Department of Commerce, certified to the Chief Counsel for Advocacy of the Small Business Administration that this proposed action would not have a significant economic impact on a substantial number of small entities. Because the harvest of northern fur seals on the Pribilof Islands, Alaska, is for subsistence purposes only, the estimate of subsistence need would not have an economic effect on any small entities. Therefore, a regulatory flexibility analysis was not prepared.

Paperwork Reduction Act

This proposed action does not require the collection of information.

Executive Order 13132 - Federalism

This proposed action does not contain policies with federalism implications sufficient to warrant preparation of a federalism assessment under E.O. 13132 because this action does not have substantial direct effects on the states, on the relationship between the national government and the states, or on the distribution of power and responsibilities among the various levels of government. Nonetheless, NMFS worked closely with local governments in the Pribilof Islands, and these estimates of subsistence needs were prepared by the local governments in St. Paul and St. George, with assistance from NMFS officials.

Executive Order 13084-Consultation and Coordination with Indian Tribal Governments

E.O. 13084 requires that if NMFS issues a regulation that significantly or uniquely affects the communities of Indian tribal governments and imposes substantial direct compliance costs on those communities, NMFS must consult with those governments, or the Federal government must provide the funds necessary to pay the direct compliance costs incurred by the tribal governments. This action does not impose substantial direct compliance costs on the communities of Indian tribal governments. Accordingly, the requirements of section 3(b) of E.O. 13084 do not apply to this action.

Nonetheless, NMFS took several steps to work with affected tribal governments to prepare and implement the proposed action. These steps included discussions on subsistence needs and mechanisms to ensure that the harvest is conducted in a non-wasteful manner. NMFS signed cooperative agreements with St. Paul in 2000 and with St. George in 2001 pursuant to section 119 of the MMPA.

Dated: July 12, 2005.
Rebecca Lent,
Deputy Assistant Administrator for Regulatory Programs, National Marine Fisheries Service.

[FR Doc. 05-14094 Filed 7-15-05; 8:45 am]

BILLING CODE 3510-22-S